DEPARTMENT OF THE TREASURY

Internal Revenue Service

Open Meeting of South Florida Citizen Advocacy Panel

ACTION: Notice.

SUMMARY: An open meeting of the South Florida Citizen Advocacy Panel will be held in Sunrise, Florida.

DATES: The meeting will be held Friday, February 23, 2001 and Saturday, February 24, 2001.

FOR FURTHER INFORMATION CONTACT: Nancy Ferree at 1-888-912-1227, or 954-423-7973.

SUPPLEMENTARY INFORMATION: Notice is hereby given pursuant to Section 10(a)(2) of the Federal Advisory Committee Act, 5 U.S.C. app. (1988) that an open meeting of the Citizen Advocacy Panel will be held Friday, February 23, 2001 from 6 p.m. to 9 p.m. and Saturday, February 24, 2000 from 9 a.m. to 12 p.m., in Room 225, CAP Office, 7771 W. Oakland Park Blvd., Sunrise, Florida 33351. The public is invited to make oral comments. Individual comments will be limited to 10 minutes. If you would like to have the CAP consider a written statement, please call 1-888-912-1227 or 954-423-7973, or write Nancy Ferree, CAP Office, 7771 W. Oakland Park Blvd. Rm. 225, Sunrise, FL 33351. Due to limited conference space, notification of intent to attend the meeting must be made with Nancy Ferree. Ms. Ferree can be reached at 1-888-912-1227 or 954-423-7973.

The agenda will include the following: various IRS issue updates and reports by the CAP sub-groups.

Note: Last minute changes to the agenda are possible and could prevent effective advance notice.

Dated: January 30, 2001.
John J. Mannion,
Director, Program Planning and Quality.

[FR Doc. 01-3544 Filed 2-9-01; 8:45 am]

BILLING CODE 4830-01-P